DEPARTMENT OF COMMERCE

Foreign-Trade Zones Board

[Order No. 1455]

Approval For Expansion Of Subzone 99D, AstraZeneca Pharmaceuticals LP Plant, (Pharmaceutical Products), Newark and Wilmington, Delaware

Pursuant to its authority under the Foreign-Trade Zones Act of June 18, 1934, as amended (19 U.S.C. 81a-81u), the Foreign-Trade Zones Board (the Board) adopts the following Order:

Whereas, the Delaware Economic Development Office, grantee of FTZ 99, has requested authority on behalf of AstraZeneca Pharmaceuticals LP (AstraZeneca), to expand the subzone boundaries and to expand the scope of manufacturing authority under zone procedures in terms of both products and capacity at Subzone 99D at the AstraZeneca pharmaceuticals manufacturing plant in Newark, Delaware (FTZ Docket 22-2005, filed 5/17/2005); and,

Whereas, notice inviting public comment has been given in the Federal Register (70 FR 30079, 5/25/05);

Whereas, the Board adopts the findings and recommendation of the examiner's report, and finds that the requirements of the FTZ Act and Board's regulations are satisfied, and that approval of the application is in the public interest;

Now, therefore, the Board hereby approves the expansion of the subzone boundaries and the scope of authority under zone procedures in terms of both products and capacity within Subzone 99D for the manufacture of pharmaceutical products at the AstraZeneca pharmaceutical manufacturing plants located in Newark and Wilmington, Delaware, as described in the application and the Federal Register notice, subject to the FTZ Act and the Board's regulations, including Section 400.28.

Signed at Washington, DC, this 31st day of May 2006.

David M. Spooner,
Assistant Secretary of Commerce for Import Administration, Alternate Chairman Foreign-Trade Zones Board.
Attest:
Dennis Puccinelli,
Executive Secretary.

[FR Doc. E6-9304 Filed 6-13-06; 8:45 am]

BILLING CODE 3510-DS-S